DEPARTMENT OF AGRICULTURE

Submission for OMB Review; Comment Request

March 8, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 12, 2021 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Foot-and-Mouth Disease; Prohibition on Importation of Farm Equipment.

OMB Control Number: 0579-0195.

Summary of Collection: The Animal Health Protection Act (AHPA) of 2002 is the primary Federal law governing the protection of animal health. (The AHPA is contained in Title X, Subtitle E, Sections 10401-18 of Public Law 107-171, May 13, 2002, the Farm Security and Rural Investment Act of 2002, and can be found at 7 U.S.C. 8301 et. seq.) It gives the Secretary of Agriculture broad authority to detect, control, or eradicate pests or diseases of livestock or poultry. The Secretary may also prohibit or restrict import or export of any animal or related material if necessary, to prevent the spread of any livestock or poultry pest or disease.

As a result of the occurrences of foot-and-mouth disease (FMD) in different parts of the world, under 9 CFR 94.1(c) APHIS prohibits the importation of all used farm equipment into the United States from regions in which FMD exists, unless the exporter provides certification signed by an authorized official of the national animal health service of the exporting region stating that the equipment, after its last use and prior to export, has been steam-cleaned free of all exposed dirt and particulate material in the exporting region. APHIS inspects all such farm equipment to ensure it complies with the regulations.

Need and Use of the Information: APHIS will collect information through the use of a certification statement completed by the farm equipment exporter and signed by an authorized official of the national animal health service of the region of origin, stating that the steam-cleaning of the equipment was done prior to export to the United States. This is necessary to help prevent the introduction of FMD into the United States. If the information were not collected APHIS would be not be able to determine risk associated with importing farm equipment and would be forced to stop the importation of used farm equipment from FMD affected regions. This could financially impact exporters and importers of the equipment.

Description of Respondents: Business or other for-profit; Federal Government.

Number of Respondents: 79.

Frequency of Responses: Reporting: On occasion.

Total Burden Hours: 1,159.

Animal Plant and Health Inspection Service

Title: Self Certification Medical Statement.

OMB Control Number: 0579-0196.

Summary of Collection: The United States Department of Agriculture is responsible for ensuring consumers that food and farm products are moved from producer to consumer in the most efficient, dependable, economical, and equitable system possible. Each year, the United States Department of Agriculture's Marketing and Regulatory Programs (MRP) agency hires individuals for commodity grading and inspection positions to ensure this process is efficient and effective. These positions often involve arduous conditions and require direct contact with meat, dairy, fresh or processed fruits and vegetables, and poultry intended for human consumption; and cotton and tobacco products intended for consumer use. 5 CFR part 339 authorizes an agency to request medical information from an applicant that may assist management with employment decisions concerning covered positions that have specific medical or physical fitness requirements. APHIS will collect the applicant's medical information using MRP Form 5 (Self-Certification Medical Statement).

Need and Use of the Information: The information collected from prospective employees assists MRP officials, administrative personnel, and servicing Human Resources Offices in determining an applicant's physical fitness and suitability for employment in positions with approved medical standards and physical requirements. If the information was not collected, APHIS would not be able to accurately determine the applicant's fitness to safely perform the duties of the covered positions.

Description of Respondents: Individuals.

Number of Respondents: 1,826.

Frequency of Responses: Reporting: On occasion.

Total Burden Hours: 306.

Animal Plant and Health Inspection Service

Title: Commercial Transportation of Equines for Slaughter.

OMB Control Number: 0579-0332.

Summary of Collection: Section 901-905 of the Federal Agriculture Improvement and Reform Act of 1996 (7 U.S.C. 1901) authorize the Secretary of Agriculture to issue guidelines for regulating the commercial transportation of equine for slaughter, by persons regularly engaged in that activity within the United States. Specifically, the Secretary is authorized to regulate the food, water, and rest provided to the equines equines while they are in transit and to review related issues be appropriate to ensuring that these animals are treated humanely. To implement the provisions of this Act, the Veterinary Services program of the U.S. Department of Agriculture's Animal and Plant Health Inspection Service (APHIS) has established minimum standards to ensure the humane movement of equines for slaughter.

Need and Use of the Information: APHIS will collect information in the form of owner-shipper certificates of fitness to travel to slaughter facility; certificate of veterinary inspection; application of backtags; collection of business information on any person found to be transporting horses to a slaughtering facility; and recordkeeping. The collected information is use to ensure that equines being transported for slaughter receive adequate food, water, and rest and are treated humanely. If the information was collected less frequently or not collected, APHIS' ability to ensure that equines destined for slaughter are treated humanely would be significantly hampered.

Description of Respondents: Business or other for profit, Individuals or Households, and Federal Government.

Number of Respondents: 332.

Frequency of Responses: Reporting: On occasion ; Recordkeeping, and Third-Party Disclosure:

Total Burden Hours: 8,608.

Animal and Plant Health Inspection Service

Title: National Veterinary Services Laboratories Request Forms.

OMB Control Number: 0579-0430.

Summary of Collection: The Animal Health Protection Act (7 U.S.C. 8301-8317) provides the Secretary of Agriculture broad authority to prohibit or restrict, through orders and regulations, the importation or entry of any animal, article, or means of conveyance if USDA determines that the prohibition or restriction is necessary to prevent the introduction or spread of any pest or disease of livestock within the United States. Disease prevention is the most effective method for maintaining a healthy animal population.

In connection with this disease prevention mission, the Animal and Plant Health Inspection Service (APHIS) National Veterinary Services Laboratories (NVSL) safeguard U.S. animal health and contribute to public health by ensuring that timely and accurate laboratory support is provided by their nationwide animal health diagnostic system.

Need and Use of the Information: APHIS will collect information using VS Form 4-9, Request for Reagents or Supplies; VS Form 4-10, NVSL Customer Contact Update; and VS Form 4-11, NVSL Application for Laboratory Training and; VS Form 12, NVSL Laboratories Kit and Instrument Order form. These forms are used to safeguard the U.S. animal population from pests and diseases. If the information was collected less frequently or not collected, APHIS would be unable to process reagent orders or provide requested training.

Description of Respondents: Foreign Federal Government; Individuals or households; Businesses; State, Local or Tribal Government.

Number of Respondents: 1,115.

Frequency of Responses: Reporting: On occasion.

Total Burden Hours: 1,223.

Animal and Plant Health Inspection Service

Title: Standardizing Phytosanitary Treatment Regulations: Approval of Cold Treatment and Irradiation Facilities; Cold Treatment Schedules; Establishment of Fumigation and Cold Treatment Compliance Agree.

OMB Control Number: 0579-0450.

Summary of Collection: The United States Department of Agriculture (USDA) is responsible for preventing plant diseases or insect pests from entering the United States, preventing the spread of pests and noxious weeds not widely distributed into the United States, and eradicating those imported pests when eradication is feasible. The Plant Protection Act (7 U.S.C. 7701—et seq.) authorizes the Department to carry out this mission. Under the Plant Protection Act, the Animal and Plant Health Inspection Service (APHIS) is authorized, among other things, to regulate the importation of plants, plant products, and other articles to prevent the introduction of plant pests into the United States. The phytosanitary treatment regulations established generic criteria that allows for the approval of new cold treatment and irradiation facilities; cold treatment schedules; and the establishment of fumigation and cold treatment compliance agreements.

Need and Use of the Information: APHIS will collect information using PPQ form 519, Compliance Agreements, PPQ form 530, Limited Permit and other collection activities to provide generic criteria for new cold treatment and irradiation facilities, cold treatment schedules, and the establishment of fumigation and cold treatment compliance agreements.

Description of Respondents: Business or other for profit, State, Local, and Tribal Government; Federal Government (Foreign).

Number of Respondents: 92.

Frequency of Responses: Reporting; Annually.

Total Burden Hours: 196.

Ruth Brown,
Departmental Information Collection Clearance Officer.

[FR Doc. 2021-05055 Filed 3-10-21; 8:45 am]

BILLING CODE 3410-34-P